FEDERAL MARITIME COMMISSION

Ocean Transportation Intermediary License Correction

In the Federal Register Notice published October 8, 2008 (73 FR 58965) the reference to Tridant Logistics International Inc. is corrected to read:

“Trident Logistics International Inc.”

Dated: October 31, 2008.
Karen V. Gregory,
Secretary.

[FR Doc. E8-26400 Filed 11-4-08; 8:45 am]

BILLING CODE 6730-01-P